DEPARTMENT OF THE INTERIOR

Minerals Management Service

Outer Continental Shelf Official Protraction Diagrams

AGENCY: Minerals Management Service, Interior.

ACTION: Availability of Revised Outer Continental Shelf Official Protraction Diagrams.

SUMMARY: Notice is hereby given that effective with this publication, two NAD 27-based Outer Continental Shelf Official Protraction Diagrams, last revised on November 1, 2000, are on file and available for information only, in the Gulf of Mexico OCS Regional Office, New Orleans, Louisiana.

FOR FURTHER INFORMATION CONTACT: Copies of Leasing Maps and Official Protraction Diagrams (OPDs) are $2.00 each. These may be purchased from the Public Information Unit, Information Services Section, Gulf of Mexico OCS Region, Minerals Mangement Service, 1201 Elmwood Park Boulevard, New Orleans, Louisiana 70123-2394, Telephone (504) 736-2519 or (800) 200-GULF.

SUPPLEMENTARY INFORMATION: In accordance with Title 43, Code of Federal Regulations, these diagrams are the basic record for the description of mineral and oil and gas lease sales in the geographic areas they represent.

Outer Continental Shelf Official Protraction Diagrams in the Western Gulf of Mexico Planning Area

Description/Date

NG15-05 Keathley Canyon—November 1, 2000

NG15-08 Sigsbee Escarpment—November 1, 2000

[Note: “Sigsbee Escarpment” is a new name for NG15-08.]

[Note: The rest of the Outer Continental Shelf Leasing Maps and Official Protraction Diagrams in the Western Gulf of Mexico Planning area will be revised in the near future.

Leasing Maps and OPDs may be obtained in two digital formats: .gra files for use in ARC/INFO and .pdf files for viewing and printing in Acrobat. Copies are also available for download at http://www.gomr.mms.gov/homepg/lsesale/mapdiag.html.

Dated: March 13, 2001.
Carolita U. Kallaur,
Associate Director for Offshore Minerals Management.

[FR Doc. 01-6683 Filed 3-16-01; 8:45 am]

BILLING CODE 4310-MR-P